DEPARTMENT OF THE INTERIOR

Fish and Wildlife Service

50 CFR Part 17

[FWS-R1-ES-2007-0024; 92210-1113-0000-C6]

RIN 1018-AU96

Endangered and Threatened Wildlife and Plants; Removing the Hawaiian Hawk From the Federal List of Endangered and Threatened Wildlife

AGENCY: Fish and Wildlife Service, Interior.

ACTION: Proposed rule; notice of public hearings; reopening of public comment period.

SUMMARY: We, the U.S. Fish and Wildlife Service (Service), announce the schedule of public hearings on the proposed rule to remove (delist) the Hawaiian hawk (Buteo solitarius) from the Federal List of Endangered and Threatened Wildlife and the reopening of the public comment period on this proposed action. The public is invited to review and comment on the proposed rule and on the draft post-delisting monitoring plan (draft PDM Plan) for the Hawaiian hawk at the scheduled public hearings or in writing.

DATES: We will hold public hearings on the Island of Hawaii on June 30, 2009, at the Pu`ueo Community Center, 145 Wainaku Street, Hilo, Hawaii, from 6 p.m. to 8 p.m., and on July 1, 2009, at Yano Hall, 82-6156 Mamalahoa Highway, Captain Cook, Hawaii, from 6 p.m. to 8 p.m. The public hearings are being held to provide interested parties an opportunity to comment on the proposed rule and draft PDM Plan. We will also accept written comments on or before August 4, 2009.

ADDRESSES: The proposed rule to delist the Hawaiian hawk and the draft PDM Plan may be downloaded from our Web site at http://www.fws.gov/pacificislands. To request a hardcopy of the proposed rule or the draft PDM Plan, write to: Field Supervisor, Attention: Hawaiian Hawk Proposed Delisting/Draft PDM Plan, Pacific Islands Fish and Wildlife Office, U.S. Fish and Wildlife Service, 300 Ala Moana Blvd., Rm. 3-122, Box 50088, Honolulu, Hawaii 96850; or call 808-792-9400, or send an e-mail request to jay_nelson@fws.gov.

You may submit comments by one of the following methods:

• Federal eRulemaking Portal: http://www.regulations.gov. Follow the instructions for submitting comments to docket number FWS-R1-ES-2007-0024.

• U.S. mail or hand-delivery: Public Comments Processing, Attn: RIN 1018-AU96; Division of Policy and Directives Management; U.S. Fish and Wildlife Service; 4401 N. Fairfax Drive, Suite 222; Arlington, VA 22203.

• Verbal testimony or delivery of written comments to hearing officials at the public hearing.

We will post all comments on http://www.regulations.gov. This generally means that we will post any personal information you provide us (see the Public Availability of Comments section below for more information).

FOR FURTHER INFORMATION CONTACT: Field Supervisor, Pacific Islands Fish and Wildlife Office, P.O. Box 50088, Honolulu, HI 96850; (telephone 808/792-9400). Persons who use a telecommunications device for the deaf (TDD) may call the Federal Information Relay Service (FIRS) at 800/877-8339, 24 hours a day, 7 days a week.

SUPPLEMENTARY INFORMATION:

Background

We published a proposed rule to remove (delist) the Hawaiian hawk from the Federal List of Endangered and Threatened Wildlife, due to recovery, on August 6, 2008, with a 60-day comment period that closed on October 6, 2008 (73 FR 45680). In response to public requests for additional dialogue on our proposed rule we held two public information meetings, one on January 28, 2009, at the Pu`ueo Community Center, in Hilo, Hawaii, and the second on January 29, 2009, in Captain Cook, Hawaii. At those public meetings we presented information on our proposed delisting rule and draft PDM Plan and responded to questions. On February 11, 2009, we formally announced the availability of the draft PDM Plan for the Hawaiian hawk and reopened a 60-day public comment period that closed on April 13, 2009 (74 FR 6853). At the public meetings held on January 28 and 29, 2009, we received requests to hold a public hearing regarding our proposed delisting rule for the hawk. In response, we have scheduled two public hearings on the Island of Hawaii (see DATES) and are reopening the public comment period.

Viewing Documents

Comments and materials we receive, as well as supporting documentation we used in preparing the draft PDM Plan and proposed rule, will be available for public inspection on http://www.regulations.gov docket number FWS-R1-ES-2007-0024, or by appointment, during normal business hours at the U.S. Fish and Wildlife Service Pacific Islands Fish and Wildlife Office (see ADDRESSES section above).

Public Comments Solicited

We intend that any final action resulting from the proposal will be as accurate and as effective as possible. Therefore, we solicit comments or suggestions from the public, concerned governmental agencies, the scientific community, industry, or any other interested party concerning the proposed rule or draft PDM plan. If you previously submitted comments on the proposed delisting rule or draft PDM plan, please do not resubmit them, as we have already incorporated them into the public record and will fully consider them in our final decision.

Public Availability of Comments

Before including your address, phone number, electronic mail address, or other personal identifying information in your comment, you should be aware that your entire document—including your personal identifying information—may be publicly available at any time. While you may request at the top of your document that we withhold this information from public review, we cannot guarantee that we will be able to do so.

Authority

The authority for this action is the Endangered Species Act of 1973 (16 U.S.C. 1531 et seq.).

Dated: May 28, 2009.
Stephen Guertin,
Acting Director, U.S. Fish and Wildlife Service.

[FR Doc. E9-13116 Filed 6-4-09; 8:45 am]

BILLING CODE 4310-55-P